DEPARTMENT OF COMMERCE

International Trade Administration

[A-533-885, A-570-097]

Polyester Textured Yarn From India and the People's Republic of China: Final Results of the Expedited First Sunset Reviews of the Antidumping Duty Orders

AGENCY: Enforcement and Compliance, International Trade Administration, Department of Commerce.

SUMMARY: The U.S. Department of Commerce (Commerce) finds that revocation of the antidumping duty (AD) orders on polyester textured yarn from India and the People's Republic of China (China) would be likely to lead to continuation or recurrence of dumping, at the levels indicated in the “Final Results of Sunset Reviews” section of this notice.

DATES: Applicable April 2, 2025.

FOR FURTHER INFORMATION CONTACT: Dawn Shackleford, Trade Agreement Policy and Negotiations, Enforcement and Compliance, International Trade Administration, U.S. Department of Commerce, 1401 Constitution Avenue NW, Washington, DC 20230; telephone: 202-482-5758.

SUPPLEMENTARY INFORMATION:

Background

On January 10, 2020, Commerce published the AD orders on polyester textured yarn from India and China.¹ On December 2, 2024, Commerce published the Initiation Notice of the first sunset reviews of the Orders, pursuant to section 751(c) of the Act.² On December 16, 2024, Commerce received notices of intent to participate in these reviews from the domestic interested parties within the deadline specified in 19 CFR 351.218(d)(1)(i).³ The domestic interested parties claimed the interested party status pursuant to section 771(9)(C) of the Act as a manufacturer, producer, or wholesaler in the United States of the domestic like product.⁴

¹ See Polyester Textured Yarn from India and the People's Republic of China: Amended Final Antidumping Duty Determination for India and Antidumping Duty Orders, 85 FR 1298 (January 10, 2020) (collectively, Orders).

² See Initiation of Five-Year (Sunset) Reviews, 89 FR 95181 (December 2, 2024).

³ See Domestic Interested Party's Letters, “Five-Year (Sunset) Review of the Antidumping Duty Order on Polyester Textured Yarn from China—Petitioners' Notice of Intent to Participate,” dated December 16, 2024; “Five-Year (Sunset) Review of the Antidumping Duty Order on Polyester Textured Yarn from the People's Republic of China (“China”)—Petitioners' Notice of Intent to Participate,” dated December 16, 2024.

⁴ Id.

On December 27, 2024, Commerce received adequate substantive responses from the domestic interested parties within the 30-day deadline specified in 19 CFR 351.218(d)(3)(i).⁵ Commerce did not receive a substantive response from any respondent interested party. On January 31, 2025, Commerce notified the ITC that it did not receive substantive responses from any respondent interested parties.⁶ As a result, pursuant to section 751(c)(3)(B) of the Act and 19 CFR 351.218(e)(1)(ii)(C)(2), Commerce is conducting expedited (120-day) sunset reviews of the Orders.

⁵ See Domestic Interested Party's Letters, “Five-Year (Sunset) Review of the Antidumping Duty Order on Polyester Textured Yarn from India—Petitioners' Substantive Response to Notice of Initiation,” dated December 27, 2024; and “Five-Year (Sunset) Review of the Antidumping Duty Order on Polyester Textured Yarn from the People's Republic of China—Petitioners' Substantive Response to Notice of Initiation.” dated December 27, 2024.

⁶ See Commerce's Letter, “Sunset Reviews Initiated on December 2, 2024,” dated January 31, 2025.

Scope of the Orders

The product covered by these Orders is polyester textured yarn from India and China. For the full description of the scope of the Orders, see the Issues and Decisions Memorandum.⁷

⁷ See Memorandum, “Issues and Decision Memorandum for the Final Results of the Expedited First Sunset Reviews of the Antidumping Duty Orders on Polyester Textured Yarn from India and the People's Republic of China,” dated concurrently with, and hereby adopted by, this notice.

Analysis of Comments Received

A complete discussion of all issues raised in this sunset review, including the likelihood of continuation or recurrence of dumping in the event of revocation of the Orders and the magnitude of the margins likely to prevail if the Orders were to be revoked, is provided in the accompanying Issues and Decision Memorandum.⁸ A list of the topics discussed in the Issues and Decision Memorandum is attached in the Appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be directly accessed at https://access.trade.gov/public/FRNoticesListLayout.aspx.

⁸ Id.

Final Results of Sunset Reviews

Pursuant to sections 751(c)(1), 752(c)(1) and (3) of the Act, Commerce determines that revocation of the Orders would be likely to lead to continuation or recurrence of dumping, and that the magnitude of the dumping margins likely to prevail would be weighted-average dumping margins up to 47.98 percent for India and up to 77.15 percent for China.

Notification Regarding Administrative Protective Orders

This notice also serves as the only reminder to parties subject to administrative protective order (APO) of their responsibility concerning the return or destruction of proprietary information disclosed under APO in accordance with 19 CFR 351.305. Timely notification of the return or destruction of APO materials, or conversion to judicial protective, orders is hereby requested. Failure to comply with the regulations and terms of an APO is a violation which is subject to sanction.

Notification to Interested Parties

We are issuing and publishing these final results in accordance with sections 751(c), 752(c), and 777(i)(1) of the Act, and 19 CFR 351.218 and 19 CFR 351.221(c)(5)(ii).

Dated: March 27, 2025.
Christopher Abbott,
Deputy Assistant Secretary for Policy and Negotiations, performing the non-exclusive functions and duties of the Assistant Secretary for Enforcement and Compliance.

Appendix—List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Sunset Reviews

VIII. Recommendation

[FR Doc. 2025-05638 Filed 4-1-25; 8:45 am]

BILLING CODE 3510-DS-P